FEDERAL ACCOUNTING STANDARDS ADVISORY BOARD

Notice of New Exposure Draft Accounting for Imputed Intra-Departmental Costs: An Interpretation of SFFAS No. 4

Board Action: Pursuant to the Federal Advisory Committee Act (Pub. L. No. 92-463), as amended, and the FASAB rules of procedure, as amended in October, 1999, notice is hereby given that the Federal Accounting Standards Advisory Board (FASAB) has published a new exposure draft, Accounting for Imputed Intra-departmental Costs: An interpretation of SFFAS No. 4.

A Summary of the Proposed Interpretation Follows: The proposed interpretation clarifies that paragraph 110 of SFFAS No. 4 does not limit the recognition of imputed intra-departmental costs. The proposed interpretation further explains that intra-departmental costs should be accounted for in accordance with the full cost provisions of SFFAS No. 4, which includes the recognition of imputed intra-departmental costs.

The exposure draft is available on the FASAB home page http://www.fasab.gov/exposure.htm. Copies can be obtained by contacting FASAB at (202) 512-7350, or loughanm@fasab.gov.

Respondents are encouraged to comment on any part of the exposure draft. Written comments are requested by January 8, 2003, and should be sent to: Wendy M. Comes, Executive Director, Federal Accounting Standards Advisory Board, 441 G Street, NW., Suite 6814, Mail Stop 6K17V, Washington, DC 20548.

FOR FURTHER INFORMATION CONTACT: Wendy Comes, Executive Director, 441 G Street, NW., Washington, DC 20548, or call (202) 512-7350.

Authority: Federal Advisory Committee Act, Pub. L. No. 92-463.

Dated: November 26, 2002.
Wendy M. Comes,
Executive Director.

[FR Doc. 02-30579 Filed 12-2-02; 8:45 am]

BILLING CODE 1610-01-M